NATIONAL AERONAUTICS AND SPACE ADMINISTRATION

[Notice (17-073)]

Notice of Intent To Grant Partially-Exclusive Term License

AGENCY: National Aeronautics and Space Administration.

ACTION: Notice of intent to grant partially-exclusive term license.

SUMMARY: NASA hereby gives notice of its intent to grant a partially exclusive term license in the United States to practice the invention described and claimed in U.S. Patent No. 8,163,972 entitled, “Zero-Valent Metallic Treatment System and its Application for Removal and Remediation of Polychlorinated Biphenyls (PCBs),” KSC-12878-2-CIP, to Marley Environmental, Inc., having its principal place of business in Avon, CT. Marley Environmental, Inc. has requested exclusivity for all fields of use in a limited geographic area. This area shall include EPA Region 1 (which includes the states of Connecticut, Rhode Island, Massachusetts, Vermont, New Hampshire, and Maine), New York, and New Jersey.

DATES: The prospective partially-exclusive license may be granted unless NASA receives written objections, including evidence and argument, no later than October 23, 2017 that establish that the grant of the license would not be consistent with the requirements regarding the licensing of federally owned inventions as set forth in the Bayh-Dole Act and implementing regulations. Competing applications completed and received by NASA no later than October 23, 2017 will also be treated as objections to the grant of the contemplated exclusive license. Objections submitted in response to this notice will not be made available to the public for inspection and, to the extent permitted by law, will not be released under the Freedom of Information Act.

ADDRESSES: Objections relating to the prospective license may be submitted to Patent Counsel, Office of the Chief Counsel, NASA John F. Kennedy Space Center, Mail Code CC-A Kennedy Space Center, FL 32899. Telephone: 321-867-2076; Facsimile: 321-867-1817.

FOR FURTHER INFORMATION CONTACT: Jonathan Leahy, Patent Attorney, Office of the Chief Counsel, NASA John F. Kennedy Space Center, Mail Code CC-A, Kennedy Space Center, FL 32899. Telephone: 321-867-6553; Facsimile: 321-867-1817.

SUPPLEMENTARY INFORMATION: This notice of intent to grant a partially-exclusive patent license is issued in accordance with 35 U.S.C. 209(e) and 37 CFR 404.7(a)(1)(i). The patent rights in these inventions have been assigned to the United States of America as represented by the Administrator of the National Aeronautics and Space Administration. The prospective exclusive license will comply with the requirements of 35 U.S.C. 209 and 37 CFR 404.7.

Information about other NASA inventions available for licensing can be found online at http://technology.nasa.gov.

Mark P. Dvorscak,
Agency Counsel for Intellectual Property.

[FR Doc. 2017-21517 Filed 10-5-17; 8:45 am]

BILLING CODE 7510-13-P